DEPARTMENT OF AGRICULTURE

Animal and Plant Health Inspection Service

[Docket No. 04-048-2]

Notice of Request for Emergency Approval of an Information Collection

AGENCY: Animal and Plant Health Inspection Service, USDA.

ACTION: New information collection; reopening of comment period.

SUMMARY: In accordance with the Paperwork Reduction Act of 1995, the Animal and Plant Health Inspection Service announced in the Federal Register that it had submitted to the Office of Management and Budget a request for emergency review and approval of an information collection associated with a national animal identification system. That notice was published on September 23, 2004 (69 FR 56990-56991), and comments were due by October 4, 2004. This notice announces our intention to reopen that comment period for an additional 20 days beyond the date of this notice.

DATES: We will consider all comments that we receive on or before October 28, 2004.

ADDRESSES: You may submit comments by any of the following methods:

• Postal Mail/Commercial Delivery: Please send four copies of your comment (an original and three copies) to Docket No. 04-048-1 Regulatory Analysis and Development, PPD, APHIS, Station 3C71, 4700 River Road Unit 118, Riverdale, MD 20737-1238. Please state that your comment refers to Docket No. 04-048-1.

• E-mail: Address your comment to regulations@aphis.usda.gov. Your comment must be contained in the body of your message; do not send attached files. Please include your name and address in your message and “Docket No. 04-048-1” on the subject line. Agency Web site: Go to http://www.aphis.usda.gov/ppd/rad/cominst.html for a form you can use to submit an e-mail comment through the APHIS Web site.

Reading Room: You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: You may view APHIS documents published in the Federal Register and related information, including the names of groups and individuals who have commented on APHIS dockets, on the Internet at http://www.aphis.usda.gov/ppd/rad/webrepor.html.

FOR FURTHER INFORMATION CONTACT: For information on the national animal identification system, contact Mr. Neil Hammerschmidt, Animal Identification Coordinator, Eradication and Surveillance Team, National Center for Animal Health Programs, VS, APHIS, 4700 River Road Unit 43, Riverdale, MD 20737; (301) 734-5571, or Dr. John Wiemers, National Animal Identification Coordinator, Eradication and Surveillance Team, National Center for Animal Health Programs, VS, APHIS, 2100 S. Lake Storey Road, Galesburg, IL 61401; (309) 344-1942. For copies of more detailed information on the information collection, contact Mrs. Celeste Sickles, APHIS” Information Collection Coordinator, at (301) 734-7477.

SUPPLEMENTARY INFORMATION:

Title: National Animal Identification System.

OMB Number: 0579-XXXX.

Type of Request: Emergency approval of a new information collection.

Abstract: The Animal and Plant Health Inspection Service (APHIS) of the U.S. Department of Agriculture (USDA) regulates the importation and interstate movement of animals and animal products and conducts various other activities to protect the health of our Nation's livestock and poultry.

Animal disease outbreaks around the globe over the past decade, and the detection of an imported cow infected with bovine spongiform encephalopathy in Washington State in December 2003, have intensified the public interest in developing a national animal identification program for the purpose of protecting animal health.

Fundamental to controlling any disease threat, foreign or domestic, to the Nation's animal resources is to have a system that can identify individual animals or groups, the premises where they are located, and the date of entry to each premises. Further, in order to achieve optimal success in controlling or eradicating an animal health threat, the timely retrieval of this information and implementation of intervention strategies after confirmation of a disease outbreak is necessary.

While there is currently no nationwide animal identification system in the United States for all animals of a given species, some segments of certain species are required to be identified as part of current program disease eradication activities. In addition, some significant regional voluntary identification programs are in place, and others are currently being developed and tested.

As a first stage of implementing a national animal identification system (NAIS), USDA has funded 29 State and tribal projects that will be conducted under cooperative agreements. States and tribes can use the funds to register premises, establish data transfer procedures, and conduct field trials or research in order to test and fine-tune identification technologies and collect animal movement data. Additional nonfederally funded projects may also be conducted. The pilot projects will help inform USDA's decisions about how to proceed with the animal identification initiative. USDA has also solicited public comment on this initiative through an advance notice of proposed rulemaking published in the Federal Register on July 14, 2004 (69 FR 42288-42300) and has conducted a series of listening sessions across the country to discuss the development, structure, and implementation of the NAIS with livestock producers and other interested persons.

USDA's ultimate goal for the NAIS is to gain the ability to identify all animals and premises that have had direct contact with a foreign animal disease or disease of concern within 48 hours of discovery. A functioning system will also be crucial as USDA works to complete disease eradication programs in which States, industry, and the Federal Government have invested many years and millions of dollars. USDA is committed to developing a program that is tested both on the farm and in the livestock markets to ensure it is both practical and effective. USDA's technology-neutral position will allow industry to determine which animal identification method or methods are the most practical and effective for each species.

APHIS has submitted a request to the Office of Management and Budget (OMB) for emergency approval of the information collection and recordkeeping activities that will be conducted under the State and tribal pilot projects discussed above. We have amended the estimate of burden shown in our initial notice to reflect only the time period that will be covered by the emergency approval.

The purpose of this notice is to solicit comments from the public (as well as affected agencies) concerning our information collection. These comments will help us:

(1) Evaluate whether the collection of information is necessary for the proper performance of the functions of the Agency, including whether the information will have practical utility;

(2) Evaluate the accuracy of our estimate of the burden of the information collection, including the validity of the methodology and assumptions used;

(3) Enhance the quality, utility, and clarity of the information to be collected; and

(4) Minimize the burden of the information collection on those who are to respond, through use, as appropriate, of automated, electronic, mechanical, and other collection technologies, e.g., permitting electronic submission of responses.

Estimate of burden: Public reporting burden for this collection of information is estimated to average 0.1404691 hours per response.

Respondents: State animal health authorities; federally recognized tribal governments; owner/operators of feedlots, markets, buying stations, and slaughter plants; producers; and nonproducer participants, such as accredited veterinarians, animal identification (ID) number managers (individuals or firms responsible for assigning animal ID numbers to producers), animal identification ID companies (companies that manufacture animal identification tags, microchips, or other animal ID devices), third party service providers (companies that provide herd management, dairy herd improvement, genetic evaluation, and other services to producers), and diagnostic laboratories and livestock buyers/dealers who submit data to the national database.

Estimated annual number of respondents: 189,963.

Estimated annual number of responses per respondent: 1.2055189.

Estimated annual number of responses: 229,004.

Estimated total annual burden on respondents: 32,168 hours. (Due to averaging, the total annual burden hours may not equal the product of the annual number of responses multiplied by the reporting burden per response.)

APHIS will provide the Office of Management and Budget with a copy of all comments received on this notice. All comments will become a matter of public record.

Done in Washington, DC, this 6th day of October 2004.
Elizabeth E. Gaston,
Acting Administrator, Animal and Plant Health Inspection Service.

[FR Doc. 04-22788 Filed 10-7-04; 8:45 am]

BILLING CODE 3410-34-P